DEPARTMENT OF THE INTERIOR

Bureau of Land Management

[LLCON00000 L10200000 DF0000.LXSS080C0000]

Notice of Resource Advisory Council Meeting for the Northwest Colorado Resource Advisory Council (Supplemental Information)

AGENCY: Bureau of Land Management, Interior.

ACTION: Notice of Public Meeting: Supplemental Information

SUMMARY: In accordance with the Federal Land Policy and Management Act of 1976 and the Federal Advisory Committee Act of 1972, notice has been published that the U.S. Department of the Interior, Bureau of Land Management (BLM) Northwest Resource Advisory Council (NW RAC) will meet on December 1, 2011. This notice provides supplemental information related to specific fee proposals that will be discussed at the December meeting in Gateway, Colorado, specifically the consideration of two new fee proposals for public lands within the Grand Junction Field Office, and one fee adjustment proposal for the Kremmling Field Office.

DATES: This supplemental information is being provided for the NW RAC meeting to be held on December 1, 2011. The meeting will begin at 8 a.m. and adjourn at approximately 3 p.m., with public comment periods regarding matters on the agenda at 10 a.m. and 2 p.m.

ADDRESSES: Gateway Canyons Resort, 43200 Colorado Highway 141.

FOR FURTHER INFORMATION CONTACT: David Boyd, Public Affairs Specialist, Colorado River Valley Field Office, 970-876-9000.

SUPPLEMENTARY INFORMATION: The 15-member NW RAC advises the Secretary of the Interior, through the BLM, on a variety of issues associated with resource management of the public lands in northwestern Colorado. On June 20, 2011, the NW RAC's charter was amended to allow the NW RAC to make recommendations of fee proposals associated with recreational use of BLM-managed public lands in northwestern Colorado under the Federal Lands Recreation Enhancement Act (FLREA). At the December 1 meeting, the NW RAC will consider two new fee proposals being developed by the Grand Junction Field Office, and one fee adjustment in the Kremmling Field Office.

The first proposal would allow the BLM to initiate an expanded amenity fee program for the 18 Road Campground in the North Fruita Desert. The BLM is proposing this fee to address maintenance and improvement issues at the campground based on significant increases in visitation. Fees would allow for campground improvements, including the addition of up to 60 new campsites.

The second proposal would allow the BLM to initiate a fee program for the Ruby-Horsethief section of the Colorado River. This fee would accompany an individual Special Recreation Permit for overnight camping and would assist the BLM in enhancing management to reduce visitor conflict and protect public land resources from damage through enforcement, land restoration and regular patrols.

The fee adjustment proposal would adjust the fee structure at the Pumphouse and Radium recreation sites along the Upper Colorado River. Fees have been charged in the area since 1998. Adjustments are necessary to keep pace with increased costs of maintaining and improving these areas.

More information about these proposals and the complete agenda for December 1 are available on the NW RAC's Web site at http://www.blm.gov/co/st/en/BLM_Resources/racs/nwrac.html. These meetings are open to the public. Depending on the number of persons wishing to comment and time available, the time for individual oral comments may be limited at the discretion of the Chair.

A separate Notice of Intent will be published in the Federal Register at a later date to announce the BLM's intent to collect fees on these two areas of public land. A Notice of Intent is not required for the fee adjustment proposal.

Helen M. Hankins,
State Director.

[FR Doc. 2011-27621 Filed 10-24-11; 8:45 am]

BILLING CODE 4310-JB-P